DEPARTMENT OF COMMERCE

National Oceanic and Atmospheric Administration

RIN 0648-XZ93

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a sector separation workshop.

DATES: The meeting will convene at 12 p.m. on Monday, November 8, 2010 and conclude by 12 p.m. on Wednesday, November 10, 2010.

ADDRESSES: The meeting will be held at the Crowne Plaza Hotel, 5303 West Kennedy Blvd, Tampa, FL 33609, telephone: (813) 287-1050.

Council address: Gulf of Mexico Fishery Management Council, 2203 N. Lois Avenue, Suite 1100, Tampa, FL 33607.

FOR FURTHER INFORMATION CONTACT: Dr. Assane Diagne, Economist; Gulf of Mexico Fishery Management Council; telephone: (813) 348-1630.

SUPPLEMENTARY INFORMATION: The workshop will serve as a platform to exchange information and discuss issues relative to sector separation and allocation such as the legal framework for making allocation decisions; constituent perceptions; and potential benefits and challenges of dividing the recreational sector into two sectors—a for-hire sector and a private recreational sector.

Copies of the agenda and other related materials can be obtained by calling (813) 348-1630.

Although other non-emergency issues not on the workshop agenda may come for discussion, in accordance with the Magnuson-Stevens Fishery Conservation and Management Act, those issues may not be the subject of formal action during this meeting. During the workshop, actions will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: October 19, 2010.
Tracey L. Thompson,
Acting Director, Office of Sustainable Fisheries, National Marine Fisheries Service.

[FR Doc. 2010-26700 Filed 10-21-10; 8:45 am]

BILLING CODE 3510-22-P